RAILROAD RETIREMENT BOARD

Proposed Collection; Comment Request

SUMMARY: In accordance with the requirement of section 3506 (c)(2)(A) of the Paperwork Reduction Act of 1995 which provides opportunity for public comment on new or revised data collections, the Railroad Retirement Board (RRB) will public periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection:

Application for Spouse Annuity Under the Railroad Retirement Act; OMB 3220-0042 section 2(c) of the Railroad Retirement Act (RRA), provides for the payment of annuities to spouses of railroad retirement annuitants who meet the requirements under the RRA. The age requirements for a spouse annuity depend on the employee's age and date of retirement and the employee's years of railroad service. The requirements relating to the annuities are prescribed in 20 CFR parts 216, 218, 219, 232, 234, and 295.

The RRB currently uses Form AA-3, Application for Spouse/Divorced Spouse Annuity, to obtain the information needed to determine an applicant's entitlement to an annuity and the amount of the annuity.

The RRB is proposing the addition of an electronic equivalent of Form AA-3 of the collection. The information collected will include all information obtained on the current manual form AA-3. The electronic equivalent, which will be available for completion over the Internet, will also, depending on circumstances, incorporate information currently collected on RRB Form AA-6, Employee Application for Medicare, Form AA-7, Spouse/Divorce Spouse Application for Medicare, and Form AA-8, Widow/Widower Application for Medicare (OMB approved 3220-0082), Form G-19L, Annual Earnings Questionnaire, Last Pre-Retirement Non-Railroad Employment (OMB approved 3220-0179), and Form G-208, Public Service Pension Questionnaire (OMB approved 3220-0136). Future plans will include the incorporation of information currently collected on RRB Form AA-4, Self-Employment and Substantial Service Questionnaire (OMB approved 3220-0138).

Upon completion of the electronic AA-3 process, the applicant will receive proposed Form AA-3cert, Application Summary and Certification for review and signature. The proposed AA-3cert will summarize information provided by/or verified by the applicant during the application process. Implementation of the AA-3cert will largely eliminate the need for the manual version of AA-3. However, the RRB will continue to use the manual version of the form in instances where the RRB representative is unable to contact the applicant in person or by telephone, i.e., the applicant lives in another country and/or does not wish to use the Internet.

The RRB estimates the burden for the collection as follows:

Estimated burden
Form # | Estimated annual responses | Estimated completion time (per response) | Estimated annual burden (hours)
AA-3 manual (without assistance) | 100 | 58 | 97
AA-3cert (Internet without assistance) | 400 | 58 | 387
AA-3cert (with assistance) | 8,000 | 35 | 4,667
Total | 8,500 |  | 5,151

No changes are proposed to manual Form AA-3. Completion is required to obtain a benefit. One response is requested of each respondent.

Additional Information or Comments

To request more information or to obtain a copy of the information collection justification, forms, and/or supporting material, please call the RRB Clearance Officer at (312) 751-3363. Comments regarding the information collection should be addressed to Ronald J. Hodapp, Railroad Retirement Board, 844 N. Rush Street, Chicago, Illinois 60611-2092. Written comments should be received within 60 days of this notice.

Chuck Mierzwa,
Clearance Officer.

[FR Doc. 01-29053 Filed 11-20-01; 8:45 am]

BILLING CODE 7905-01-M